DEPARTMENT OF TRANSPORTATION

Federal Transit Administration

Safety Advisory 22-4 Suicide Prevention Signage on Public Transit

AGENCY: Federal Transit Administration (FTA), Department of Transportation (DOT).

ACTION: Notice of Safety Advisory.

SUMMARY: The Federal Transit Administration (FTA) is issuing Safety Advisory 22-4 to encourage rail transit agencies to implement, update, or expand suicide prevention signage and messaging campaigns that apply best practices for deterring suicide attempts. This safety advisory provides guidance on suicide prevention signage and mental health intervention campaigns and provides supporting resources for transit agencies. The FTA's Safety Advisory 22-4, “Suicide Prevention Signage on Public Transit,”' is available on the agency's website. (https://www.transit.dot.gov/regulations-and-guidance/safety/fta-safety-advisories).

FOR FURTHER INFORMATION CONTACT: Joseph DeLorenzo, Associate Administrator for Transit Safety and Oversight, telephone (202) 366-1783 or Joseph.DeLorenzo@dot.gov.

Authority: 49 U.S.C. 5329; 49 CFR 1.91 and 670.29.

Nuria I. Fernandez,
Administrator.

[FR Doc. 2022-26574 Filed 12-6-22; 8:45 am]

BILLING CODE 4910-57-P